COMMITTEE FOR THE IMPLEMENTATION OF TEXTILE AGREEMENTS

Adjustment of Import Limits for Certain Cotton, Wool, Man-Made Fiber, Silk Blend and Other Vegetable Fiber Textiles and Textile Products Produced or Manufactured in Indonesia

September 21, 2000.

AGENCY: Committee for the Implementation of Textile Agreements (CITA).

ACTION: Issuing a directive to the Commissioner of Customs adjusting limits.

EFFECTIVE DATE: September 27, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for swing, special shift, carryover and carryforward.

A description of the textile and apparel categories in terms of HTS numbers is available in the CORRELATION: Textile and Apparel Categories with the Harmonized Tariff Schedule of the United States (see Federal Register notice 64 FR 71982, published on December 22, 1999). Also see 64 FR 54870, published on October 8, 1999.

Richard B. Steinkamp,
Acting Chairman, Committee for the Implementation of Textile Agreements.

Committee for the Implementation of Textile Agreements

September 21, 2000.

Commissioner of Customs,

Department of the Treasury, Washington, DC 20229.

Dear Commissioner: This directive amends, but does not cancel, the directive issued to you on October 4, 1999, by the Chairman, Committee for the Implementation of Textile Agreements. That directive concerns imports of certain cotton, wool, man-made fiber, silk blend and other vegetable fiber textiles and textile products, produced or manufactured in Indonesia and exported during the twelve-month period which began on January 1, 2000 and extends through December 31, 2000.

Effective on September 27, 2000, you are directed to adjust the limits for the categories listed below, as provided for under the Uruguay Round Agreement on Textiles and Clothing:

Category | Adjusted twelve-month limit ¹
Levels in Group I |
219 | 11,081,418 square meters.
225 | 8,570,999 square meters.
300/301 | 5,071,743 kilograms.
313-O ² | 18,147,516 square meters.
314-O ³ | 71,010,756 square meters.
315-O ⁴ | 37,458,436 square meters.
317-O ⁵/326-O ⁶/617 | 25,727,098 square meters of which not more than 5,028,777 square meters shall be in Category 326-O.
331/631 | 3,291,781 dozen pairs.
334/335 | 299,293 dozen.
336/636 | 850,411 dozen.
338/339 | 1,706,547 dozen.
340/640 | 1,951,268 dozen.
341 | 1,269,409 dozen.
342/642 | 484,081 dozen.
345 | 546,563 dozen.
347/348 | 2,311,822 dozen.
350/650 | 186,830 dozen.
351/651 | 713,820 dozen.
359-C/659-C ⁷ | 1,638,708 kilograms.
359-S/659-S ⁸ | 1,604,665 kilograms.
360 | 1,652,207 numbers.
361 | 1,725,688 numbers.
369-S ⁹ | 953,142 kilograms.
433 | 13,133 dozen.
443 | 97,429 numbers.
445/446 | 65,287 dozen.
447 | 20,365 dozen.
448 | 23,996 dozen.
604-A ¹⁰ | 909,346 kilograms.
611-O ¹¹ | 4,202,583 square meters.
613/614/615 | 28,247,818 square meters.
618-O ¹² | 2,618,666 square meters.
619/620 | 12,021,705 square meters.
625/626/627/628/629-O ¹³ | 31,681,429 square meters.
634/635 | 386,013 dozen.
638/639 | 1,920,085 dozen.
641 | 3,166,399 dozen.
643 | 431,423 numbers.
644 | 610,633 numbers.
645/646 | 1,065,583 dozen.
647/648 | 4,019,306 dozen.
847 | 557,768 dozen.
Group II |
201, 218, 220, 222-224, 226, 227, 237, 239pt. ¹⁴, 332, 333, 352, 359-O ¹⁵, 362, 363, 369-O ¹⁶, 400, 410, 414, 431, 434, 435, 436, 438, 440, 442, 444, 459pt. ¹⁷, 464, 469pt. ¹⁸, 603, 604-O ¹⁹, 606, 607, 621, 622, 624, 633, 649, 652, 659-O ²⁰, 666, 669-O ²¹, 670-O ²², 831, 833-836, 838, 840, 842-846, 850-852, 858 and 859pt. ²³, as a group | 127,728,391 square meters equivalent.
Subgroup in Group II
400, 410, 414, 431, 434, 435, 436, 438, 440, 442, 444, 459pt., 464 and 469pt., as a group | 3,439,030 square meters equivalent.
In Group II subgroup
435 | 53,989 dozen.
¹ The limits have not been adjusted to account for any imports exported after December 31, 1999.
² Category 313-O: all HTS numbers except 5208.52.3035, 5208.52.4035 and 5209.51.6032.
³ Category 314-O: all HTS numbers except 5209.51.6015.
⁴ Category 315-O: all HTS numbers except 5208.52.4055.
⁵ Category 317-O: all HTS numbers except 5208.59.2085.
⁶ Category 326-O: all HTS numbers except 5208.59.2015, 5209.59.0015 and 5211.59.0015.
⁷ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁹ Category 369-S: only HTS number 6307.10.2005.
¹⁰ Category 604-A: only HTS number 5509.32.0000.
¹¹ Category 611-O: all HTS numbers except 5516.14.0005, 5516.14.0025 and 5516.14.0085.
¹² Category 618-O: all HTS numbers except 5408.24.9010 and 5408.24.9040.
¹³ Category 625/626/627/628; Category 629-O: all HTS numbers except 5408.34.9085 and 5516.24.0085.
¹⁴ Category 239pt.: only HTS number 6209.20.5040 (diapers).
¹⁵ Category 359-O: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6112.39.0010, 6112.49.0010, 6211.11.8010, 6211.11.8020, 6211.12.8010 and 6211.12.8020 (Category 359-S) and 6406.99.1550 (Category 359pt.).
¹⁶ Category 369-O: all HTS numbers except 6307.10.2005 (Category 369-S); 5601.10.1000, 5601.21.0090, 5701.90.1020, 5701.90.2020, 5702.10.9020, 5702.39.2010, 5702.49.1020, 5702.49.1080, 5702.59.1000, 5702.99.1010, 5702.99.1090, 5705.00.2020 and 6406.10.7700 (Category 369pt.).
¹⁷ Category 459pt.: all HTS numbers except 6405.20.6030, 6405.20.6060, 6405.20.6090, 6406.99.1505 and 6406.99.1560.
¹⁸ Category 469pt.: all HTS numbers except 5601.29.0020, 5603.94.1010 and 6406.10.9020.
¹⁹ Category 604-O: all HTS numbers except 5509.32.0000 (Category 604-A).
²⁰ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6112.31.0010, 6112.31.0020, 6112.41.0010, 6112.41.0020, 6112.41.0030, 6112.41.0040, 6211.11.1010, 6211.11.1020, 6211.12.1010, 6211.12.1020 (Category 659-S); 6406.99.1510 and 6406.99.1540 (Category 659pt.).
²¹ Category 669-O: all HTS numbers except 6305.32.0010, 6305.32.0020, 6305.33.0010, 6305.33.0020, 6305.39.0000 (Category 669-P); 5601.10.2000, 5601.22.0090, 5607.49.3000, 5607.50.4000 and 6406.10.9040 (Category 669pt.).
²² Category 670-O: all HTS numbers except 4202.12.8030, 4202.12.8070, 4202.92.3020, 4202.92.3031, 4202.92.9026 and 6307.90.9907 (Category 670-L).
²³ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,
Richard B. Steinkamp,
Acting Chairman, Committee for the Implementation of Textile Agreements.

[FR Doc.00-24827 Filed 9-26-00; 8:45 am]

BILLING CODE 3510-DR-F